DEPARTMENT OF HEALTH AND HUMAN SERVICES (HHS)

Centers for Medicare & Medicaid Services

Notice of Hearing: Reconsideration of Disapproval of Ohio State Plan Amendment (SPA) 07-014

AGENCY: Centers for Medicare & Medicaid Services (CMS), HHS.

ACTION: Notice of Hearing.

SUMMARY: This notice announces an administrative hearing to be held on April 4, 2008, at the CMS Chicago Regional Office, 233 N. Michigan Avenue, Suite 600, the Illinois Room, Chicago, IL 60601-5519, to reconsider CMS' decision to disapprove Ohio SPA 07-014.

Closing Date: Requests to participate in the hearing as a party must be received by the presiding officer by March 19, 2008.

FOR FURTHER INFORMATION CONTACT: Kathleen Scully-Hayes, Presiding Officer, CMS, 2520 Lord Baltimore Drive, Suite L, Baltimore, Maryland 21244, Telephone: (410) 786-2055.

SUPPLEMENTARY INFORMATION: This notice announces an administrative hearing to reconsider CMS' decision to disapprove Ohio SPA 07-014, which was submitted on September 28, 2007, and disapproved on December 20, 2007.

Under this SPA, the State proposed to expand Medicaid eligibility by excluding all family income that is between 201 percent of the Federal poverty level (FPL) and 300 percent of the FPL in calculating income for purposes of determining eligibility. As a result, although the plan nominally provides for eligibility of optional targeted low-income children only for those with family income through 200 percent of the FPL, in effect, the eligibility level would rise to 300 percent of the FPL.

The amendment was disapproved because it indicated that the State will claim Federal matching funds at a rate other than the rate set forth in the Social Security Act (the Act), and thus, is not consistent with methods of administration necessary for proper and efficient operation of the plan, as required by section 1902(a)(4) of the Act.

At the hearing:

• The disapproval of this SPA will be discussed. The SPA was disapproved because the State declared its intent and was unwilling to change its intent to claim Federal matching funds at the regular matching rate, rather than the enhanced matching rate set forth in the Act, for the expanded population optional targeted low-income children, with income between 201 percent and 300 percent of the FPL.

• Section 1903(a)(1) of the Act requires that the Secretary pay the Federal medical assistance percentage (FMAP) of claimed State expenditures under the approved plan. The FMAP is defined at section 1905(b) of the Act. This section provides that the Federal matching rate for children described in section 1905(u)(2)(B) or (u)(3) of the Act “is equal to the enhanced FMAP described in section 2105(b)” of the Act, unless the State has exhausted its allotment under section 2104 of the Act, under the State Children's Health Insurance Program, or failed to comply with maintenance of effort and proper reporting requirements. Since none of those conditions appear to apply, and the expansion group is comprised of individuals who are described in section 1905(u)(2)(B) of the Act, the enhanced FMAP is the applicable FMAP rate, and claims at any other rate would not be consistent with proper and efficient administration of the State plan.

• The State's proposal was not consistent with methods of administration necessary for proper and efficient operation of the plan, as required by section 1902(a)(4) of the Act, because the State indicated in its overall submission that the State did not plan to submit claims at the statutorily indicated FMAP rate.

Section 1116 of the Act and Federal regulations at 42 CFR part 430 establish Department procedures that provide an administrative hearing for reconsideration of a disapproval of a State plan or plan amendment. CMS is required to publish a copy of the notice to a State Medicaid agency that informs the agency of the time and place of the hearing, and the issues to be considered. If we subsequently notify the agency of additional issues that will be considered at the hearing, we will also publish that notice.

Any individual or group that wants to participate in the hearing as a party must petition the presiding officer within 15 days after publication of this notice, in accordance with the requirements contained at 42 CFR 430.76(b)(2). Any interested person or organization that wants to participate as amicus curiae must petition the presiding officer before the hearing begins in accordance with the requirements contained at 42 CFR 430.76(c). If the hearing is later rescheduled, the presiding officer will notify all participants.

The notice to Ohio announcing an administrative hearing to reconsider the disapproval of its SPA reads as follows:

Ara Mekhjian, Esq.,

Assistant Attorney General,

State of Ohio,

Health and Human Services Section,

30 E. Broad Street, 26th Floor,

Columbus, OH 43215-3400.

Dear Mr. Mekhjian:

I am responding to your request for reconsideration of the decision to disapprove the Ohio State plan amendment (SPA) 07-014, which was submitted on September 28, 2007, and disapproved on December 20, 2007.

Under this SPA, the State proposed to expand Medicaid eligibility by excluding all family income that is between 201 percent of the Federal poverty level (FPL) and 300 percent of the FPL in calculating income for purposes of determining eligibility. As a result, although the plan nominally provides for eligibility of optional targeted low-income children only for those with family income through 200 percent of the FPL, in effect, the eligibility level would rise to 300 percent of the FPL.

The amendment was disapproved because it indicated that the State will claim Federal matching funds at a rate other than the rate set forth in the Social Security Act (the Act), and thus, is not consistent with methods of administration necessary for proper and efficient operation of the plan, as required by section 1902(a)(4) of the Act.

At the hearing:

• The disapproval of this SPA will be discussed. The SPA was disapproved because the State declared its intent and was unwilling to change its intent to claim Federal matching funds at the regular matching rate, rather than the enhanced matching rate set forth in the Act, for the expanded population optional targeted low-income children, with income between 201 percent and 300 percent of the FPL.

• Section 1903(a)(1) of the Act requires that the Secretary pay the Federal medical assistance percentage (FMAP) of claimed State expenditures under the approved plan. The FMAP is defined at section 1905(b) of the Act. This section provides that the Federal matching rate for children described in section 1905(u)(2)(B) or (u)(3) of the Act “is equal to the enhanced FMAP described in section 2105(b)” of the Act, unless the State has exhausted its allotment under section 2104 of the Act, under the State Children's Health Insurance Program, or failed to comply with maintenance of effort and proper reporting requirements. Since none of those conditions appear to apply, and the expansion group is comprised of individuals who are described in section 1905(u)(2)(B) of the Act, the enhanced FMAP is the applicable FMAP rate, and claims at any other rate would not be consistent with proper and efficient administration of the State plan.

• The State's proposal was not consistent with methods of administration necessary for proper and efficient operation of the plan, as required by section 1902(a)(4) of the Act, because the State indicated in its overall submission that the State did not plan to submit claims at the statutorily indicated FMAP rate.

I am scheduling a hearing at your request for reconsideration to be held on April 4, 2008, at the Centers for Medicare & Medicaid Services' Chicago Regional Office, 233 N. Michigan Avenue, Suite 600, the Illinois Room, Chicago, IL 60601-5519, to reconsider the decision to disapprove SPA 07-014. If this date is not acceptable, we would be glad to set another date that is mutually agreeable to the parties. The hearing will be governed by the procedures prescribed by Federal regulations at 42 CFR Part 430.

I am designating Ms. Kathleen Scully-Hayes as the presiding officer. If these arrangements present any problems, please contact the presiding officer at (410) 786-2055. In order to facilitate any communication which may be necessary between the parties to the hearing, please notify the presiding officer to indicate acceptability of the hearing date that has been scheduled and provide names of the individuals who will represent the State at the hearing.

Sincerely,

Kerry Weems,

Acting Administrator.

(Section 1116 of the Social Security Act (42 U.S.C. 1316); 42 CFR 430.18).

(Catalog of Federal Domestic Assistance program No. 13.714, Medicaid Assistance Program.)

Dated: February 25, 2008.
Kerry Weems,
Acting Administrator, Centers for Medicare & Medicaid Services.

[FR Doc. E8-4068 Filed 3-3-08; 8:45 am]

BILLING CODE 4120-01-P